DEPARTMENT OF HOMELAND SECURITY

Coast Guard

33 CFR Part 125

[USCG-2006-24189]

Maritime Identification Credentials

AGENCY: Coast Guard, DHS.

ACTION: Notice of acceptable identification credentials; phased cancellation.

SUMMARY: This document informs the public that, after their Captain of the Port (COTP) has implemented access control procedures using the Transportation Worker Identification Credential (TWIC), the COTP no longer needs to enforce the previously published notice requiring name-based vetting of certain port workers.

DATES: This announcement is effective January 16, 2009.

ADDRESSES: Documents indicated in this preamble as being available in the docket are part of docket USCG-2006-24189 and are available for inspection or copying at the Docket Management Facility, U.S. Department of Transportation, West Building, Ground Floor, Room W12-140, 1200 New Jersey Avenue, SE., Washington, DC 20590-0001 between 9 a.m. and 5 p.m., Monday through Friday, except Federal holidays. They may also be viewed online at www.regulations.gov at any time.

FOR FURTHER INFORMATION CONTACT: If you have questions on this document, call James Bull, Coast Guard, telephone 202-372-1144. If you have questions on viewing material in the docket, call Renee V. Wright, Program Manager, Docket Operations, telephone 202-366-9826.

SUPPLEMENTARY INFORMATION:

Background and Purpose

Under the authority of 50 U.S.C. 191 and Coast Guard regulations (33 CFR part 125), the Coast Guard has the authority to require identification credentials for access to waterfront facilities and to port and harbor areas, including vessels and harbor craft in those areas. The Commandant of the Coast Guard, pursuant to 33 CFR 125.15(a), is authorized to direct, from time to time, the Captains of the Port “to prevent access of persons who do not possess one or more of the identification credentials listed in § 125.09 to those waterfront facilities, and port and harbor areas, including vessels and harbor craft therein, where the following shipping activities are conducted: * * * [t]hose essential to the interests of national security and defense, to prevent loss, damage or injury, or to insure the observance of rights and obligations of the United States.”

On April 28, 2006, the Coast Guard published a “Notice of acceptable identification credentials” in the Federal Register at 71 FR 25066 (“April 28, 2006 Notice”), which directed the COTPs to deny access to waterfront facilities regulated under 33 CFR part 105 to persons that did not have appropriate identification credentials, as defined by 33 CFR 125.09. This action was deemed necessary in the interests of national security and to protect these facilities from loss, damage, or injury. The appropriate credentials included a Merchant Mariner Document, an Armed Forces Identification Card, Federal law enforcement credentials, identification credentials issued to public safety officers, and other credentials defined in the April 28, 2006 Notice in accordance with 33 CFR 125.09(g).

The April 28, 2006 Notice set out a procedure by which the Transportation Security Administration (TSA) analyzed relevant information, submitted by the facility owner or operator either directly to TSA or via the Coast Guard, before determining whether or not an employee or longshoreman posed or was suspected of posing a security threat warranting denial of access to the port facility. This information included the employee's or longshoreman's legal name, date of birth, social security number (optional), and alien identification number (if applicable). TSA notified the facility and the COTP of persons that posed or were suspected of posing a security threat, and those persons were denied access to facilities regulated under 33 CFR part 105, as not having approved identification credentials under 33 CFR 125.09(f).

Facility Access Under TWIC

The April 28, 2006 Notice stated that “when regulations implementing the Transportation Worker Identification Credential (TWIC) are issued, the Coast Guard will reevaluate this action.” (71 FR 25066). The Final Rule implementing TWIC was published in the Federal Register on January 25, 2007 (72 FR 3492). TWIC enrollment began in October of 2007 (72 FR 57342); there are now 149 enrollment centers open. On May 7, 2008, the Coast Guard and TSA issued a final rule extending the TWIC compliance date. (73 FR 25562). All persons required to obtain a TWIC, and all vessels and facilities required to use a TWIC as an access control measure, must comply by April 15, 2009, unless the Coast Guard issues an earlier compliance date.

On May 7, 2008, the Coast Guard began announcing earlier rolling compliance dates for facilities, as provided in 33 CFR 105.115(e). (73 FR 25757). Those compliance dates, in order of occurrence and by COTP Zone, are listed in Table 1, below.

Cancellation of Procedure Established by April 28, 2006 Notice

The procedure established in the April 28, 2006 Notice was intended to be an interim measure that would be reevaluated once the TWIC program was operational. As part of this procedure, TSA conducted a name-based security threat assessment on more than 800,000 workers. This number far exceeds the population estimates we had when the April 28, 2006 Notice was published, and has enhanced security in the nation's maritime sector. However, the security threat assessment TSA is now able to conduct through the TWIC program is more robust. Also, the TWIC enrollment process, which includes comprehensive identification verification standards and more detailed information provided by the worker, produces more complete information on which to base a security threat assessment. Thus, the results of the TWIC threat assessments are more accurate than the name-based check run under the April 28, 2006 Notice.

As a result of the above, the Coast Guard has determined that, once TWIC has been implemented in a COTP Zone (according to the date announced in the Federal Register and reflected in Table 1), the personal identification requirements implemented by the April 28, 2006 Notice are no longer necessary.

Table 1—Dates of TWIC Compliance and Cancellation of TSA Name-Based Vetting
If you are in COTP zone . . . | Then your TWIC Compliance date (and the date when you may stop using the procedure from the April 28, 2006 Notice) is . . .
Boston, Northern New England, Southeastern New England | October 15, 2008 (Notice published at 73 FR 25757).
Cape Fear River, Corpus Christi, North Carolina | November 28, 2008 (Notice published at 73 FR 40739).
Buffalo, Detroit, Duluth, Lake Michigan, Sault St. Marie | December 1, 2008 (The original Notice, published at 73 FR 39323, set a compliance date of October 31, 2008. A new Notice, published at 73 FR 64208, delayed compliance until December 1, 2008).
Charleston, Long Island Sound, Jacksonville, Savannah | December 1, 2008 (Notice published at 73 FR 44653).
Baltimore, Delaware Bay, Mobile, Lower Mississippi River, Ohio Valley, Pittsburgh, San Diego | December 30, 2008 (Notice published at 73 FR 50721).
Hampton Roads, Morgan City, New Orleans, Upper Mississippi River, Miami, Key West, St. Petersburg | January 13, 2009 (Notice published at 73 FR 52924).
Honolulu, Prince William Sound, Southeast Alaska, Western Alaska | February 12, 2009 (Notice published at 73 FR 56730).
Portland, Puget Sound, San Francisco Bay | February 28, 2009 (Notice published at 73 FR 60951).
New York | March 23, 2009 (Notice published at 73 FR 60951).
Guam, Houston-Galveston , Los Angeles-Long Beach, San Juan | April 14, 2009 (Notice published at 73 FR 63377).
Port Arthur | April 14, 2009 (The original Notice, published at 73 FR 40739, set a compliance date of October 31, 2008. A new Notice, published at 73 FR 64208, delayed compliance until April 14, 2009).

As of the above-listed effective date of TWIC compliance in each COTP zone, the Coast Guard is rescinding its previous direction to COTPs to prevent access to all facilities regulated under 33 CFR part 125 to persons who do not have an identification credential listed in 33 CFR 125.09, as amended by the April 28, 2006 Notice. Once they have implemented access control procedures utilizing TWIC, owners and operators of these facilities, and unions, may cease the transmission of information on employees and longshoremen (respectively) to TSA. Unless further notice appears in the Federal Register, by April 14, 2009, all transmissions of information under the April 28, 2006 Notice should cease.

Dated: January 12, 2009.
James A. Watson,
Rear Admiral, U.S. Coast Guard, Director of Prevention Policy.

[FR Doc. E9-847 Filed 1-15-09; 8:45 am]

BILLING CODE 4910-15-P